DEPARTMENT OF ENERGY

Federal Energy Regulatory Commission

Combined Notice of Filings #2

Take notice that the Commission received the following electric rate filings:

Docket Numbers: ER10-2331-073.

Applicants: J.P. Morgan Ventures Energy Corporation.

Description: Notice of Change in Status of the J.P. Morgan Ventures Energy Corporation.

Filed Date: 4/15/20.

Accession Number: 20200415-5145.

Comments Due: 5 p.m. ET 5/6/20.

Docket Numbers: ER20-1106-001.

Applicants: Missisquoi, LLC.

Description: Tariff Amendment: Missisquoi Change In Status—Revised to be effective 2/28/2020.

Filed Date: 4/15/20.

Accession Number: 20200415-5068.

Comments Due: 5 p.m. ET 5/6/20.

Docket Numbers: ER20-1567-000.

Applicants: ISO New England Inc.

Description: Compliance filing: ISO New England Inc.; Compliance Filing of Energy Security Improvements to be effective 11/1/2020.

Filed Date: 4/15/20.

Accession Number: 20200415-5058.

Comments Due: 5 p.m. ET 5/6/20.

Docket Numbers: ER20-1568-000.

Applicants: Duke Energy Florida, LLC.

Description: § 205(d) Rate Filing: DEF 2020 Annual Update of Real Power Loss Factors to be effective 5/1/2020.

Filed Date: 4/15/20.

Accession Number: 20200415-5060.

Comments Due: 5 p.m. ET 5/6/20.

Docket Numbers: ER20-1569-000.

Applicants: ITC Midwest LLC.

Description: § 205(d) Rate Filing: Concurrence IPL Amended Exhibits and Attachments (2020) to be effective 6/15/2020.

Filed Date: 4/15/20.

Accession Number: 20200415-5061.

Comments Due: 5 p.m. ET 5/6/20.

Docket Numbers: ER20-1570-000.

Applicants: AEP Texas Inc.

Description: § 205(d) Rate Filing: AEPTX-El Algodon Alto Wind Farm Interconnection Agreement to be effective 4/2/2020.

Filed Date: 4/15/20.

Accession Number: 20200415-5077.

Comments Due: 5 p.m. ET 5/6/20.

Docket Numbers: ER20-1571-000.

Applicants: Entergy Arkansas, LLC.

Description: § 205(d) Rate Filing: EAL-Chicot Solar, LLC, LBA Agreement to be effective 6/14/2020.

Filed Date: 4/15/20.

Accession Number: 20200415-5135.

Comments Due: 5 p.m. ET 5/6/20.

Docket Numbers: ER20-1572-000.

Applicants: Turquoise Nevada LLC.

Description: § 205(d) Rate Filing: Turquoise Nevada LLC First Amendment to Shared Facilities Agreement to be effective 2/22/2020.

Filed Date: 4/15/20.

Accession Number: 20200415-5149.

Comments Due: 5 p.m. ET 5/6/20.

Docket Numbers: ER20-1573-000.

Applicants: DesertLink, LLC.

Description: Compliance filing: DesertLinks Order No. 864 Compliance Filing to be effective 1/27/2020.

Filed Date: 4/15/20.

Accession Number: 20200415-5157.

Comments Due: 5 p.m. ET 5/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 15, 2020.
Nathaniel J. Davis, Sr.,
Deputy Secretary.

[FR Doc. 2020-08449 Filed 4-21-20; 8:45 am]

BILLING CODE 6717-01-P